DEPARTMENT OF VETERANS AFFAIRS

Privacy Act of 1974; System of Records

AGENCY: Department of Veterans Affairs (VA).

ACTION: New System of Records—Police and Security Records—VA (103VA07B).

SUMMARY: As required by the Privacy Act of 1974, Title 5 United States Code, Section 552a(e), notice is hereby given that the Department of Veterans Affairs (VA) is adding a new system of records, “Police and Security Records—VA” (103VA07B).

DATES: Comments on the establishment of this new system of records must be received no later than January 21, 2003. If no public comment is received, the new system will become effective January 21, 2003.

ADDRESSES: Written comments concerning the proposed new system of records may be submitted to the Office of Regulations Management (02D), Department of Veterans Affairs, 810 Vermont Avenue, NW., Washington, DC 20420. Comments will be available for public inspection at the above address in the Office of Regulations Management, Room 1158, between the hours of 8 a.m. and 4:30 p.m., Monday through Friday (except holidays).

FOR FURTHER INFORMATION CONTACT: Director, Police and Security Service (07B), Department of Veterans affairs, 810 Vermont Avenue, NW., Washington, DC 20420, telephone (202) 273-5544.

SUPPLEMENTARY INFORMATION:

I. Description of the Proposed Systems of Records

Until 1989, the VA Police and Security Service was organizationally within VA's Veterans Health Administration (VHA) and its mission was the operational oversight and guidance of the security services at VHA health care facilities nationwide. In 1989, Police and Security Service was placed within the Office of the Deputy Assistant Secretary for Security and Law Enforcement within the Office of the Assistant Secretary for Human Resources and Administration. The Office of Security and Law Enforcement oversees the maintenance of law and order and the protection of persons and property on Department property at VA facilities nationwide and at the Central Office facilities. In addition, it oversees the Department's Personnel and Classified Information Security Program.

The new system of records will cover veterans, Federal government employees, VA police officers, retirees, volunteers, contractors, subcontractors, and other individuals, including private citizens, involved in activities within the assigned responsibilities of Police and Security Service at VA field facilities and Central Office. The records in the system will be comprised of electronic and paper records that contain information retrieved by name or personal identifier and found in such files as a master name index file, quick name check, offense reports, violations, motor vehicle registrations, wants and warrants, police daily operations journal, police officer training records, photographs, uniform offense reports, accident reports, information on identification cards, records of evidence and property, and records of citations. The authority to maintain these records is Title 38, United States Code, Section 501 and Sections 901-905. The records and information contained in this system of records are necessary for the effective administration and management of the Department's nationwide Police and Security program. This requires the collection and use of accurate, up-to-date data for the purposes of enforcing laws protecting persons and property on VA property and at VA Central Office, and overseeing VA's Emergency Preparedness and Personnel and Classified Information Security programs. Records in the system are maintained electronically, on paper, or both, and are retrieved by the name or Social Security Number of any one of several individuals who may be identified in data fields in the electronic records maintained on VistA and entered and accessed by means of the Police and Security VistA module. These individuals include victim, VA police officer, witness, and suspect.

II. Proposed Routine Use Disclosures of Data in the System

A. Disclosure may be made to a congressional office from the record of an individual in response to an inquiry from the congressional office made at the request of that individual.

Individuals sometimes request the help of a Member of Congress in resolving some issues relating to a matter before VA. The Member of Congress then writes VA, and VA must be able to give sufficient information to be responsive to the inquiry.

B. Disclosure may be made to National Archives and Records Administration (NARA) in records management activities and inspections conducted under authority of Title 44 United States Code.

NARA is responsible for archiving records no longer actively used, but which may be appropriate for preservation. NARA is responsible, in general, for the physical maintenance of the Federal government's records. VA must be able to turn records over to this Agency in order to determine the proper disposition of such records.

C. Disclosure may be made to the Department of Justice (DoJ) and United States attorneys in defense or prosecution of litigation involving the United States, and to Federal agencies upon their request in connection with review of administrative tort claims filed under the Federal Tort Claims Act, Title 28 United States Code, Section 2672.

VA must be able to provide information to DoJ and other Federal agencies for litigation of tort claims.

D. Any information in this system, except for the name and address of a veteran, may be disclosed to a Federal, State, local, tribal, or foreign agency maintaining civil or criminal violation records, or other pertinent information such as prior employment history, prior Federal employment background investigations, and/or personal or educational background in order for VA to obtain information relevant to the hiring, transfer, or retention of an employee, the letting of a contract, the granting of a security clearance, or the issuance of a grant or other benefit. The name and address of a veteran may be disclosed to a Federal agency under this routine use if this information has been requested by the Federal agency in order to respond to the VA inquiry.

VA needs to obtain information from other agencies in order to conduct background and security clearance checks on applicants for employment to VA, contractors, or persons requesting a grant.

E. VA may disclose on its own initiative any information in this system, except the names and home addresses of veterans and their dependents, which is relevant to a suspected or reasonably imminent violation of law, whether civil, criminal, or regulatory in nature and whether arising by general or program statute or by regulation, rule or order issued pursuant thereto, to a Federal, State, local, tribal, or foreign agency charged with the responsibility of investigating or prosecuting such violation, or charged with enforcing or implementing the statute, regulation, rule or order. On its own initiative, VA may also disclose the names and addresses of veterans and dependents to a Federal agency charged with the responsibility of investigating or prosecuting civil, criminal, or regulatory violations of law, or charged with enforcing or implementing the statute, regulation, rule, or order issued pursuant thereto.

VA must be able to notify agencies charged with enforcing the law or conducting investigations. VA must also be able to provide information to State or local agencies charged with protecting the public health as set forth in State law.

F. Information from this system of records may be disclosed to DoJ or in a proceeding before a court, adjudicative body, or other administrative body before which the Agency is authorized to appear when: the Agency, or any component thereof, or any employee of the Agency in his or her official capacity, where DoJ or the Agency has agreed to represent the employee or the U.S.; when the Agency determines that litigation is likely to affect the Agency, or any of its components, is a party to litigation and has an interest in such litigation, and the use of such information by DoJ or the Agency is deemed by the Agency to be relevant and necessary to the litigation provided that the disclosure is compatible with the purpose for which the records were collected.

Whenever VA is involved in litigation, or occasionally when another party is involved in litigation, and VA policies or operations could be affected by the outcome of the litigation, VA would be able to disclose information to the court or parties involved. A determination would be made in each instance that, under the circumstances involved, the purpose served by the use of the information in the particular litigation is compatible with a purpose for which VA collects the information.

G. Information in this system regarding traffic accidents may be disclosed to private insurance companies for use in determining payment of a claim under a policy.

H. Any Information in this system may be disclosed to attorneys representing veterans, employees, contractors, subcontractors, or private citizens being investigated and/or prosecuted for violating the law to assist attorneys in representing their clients, except where VA has decided release is inappropriate under Title 5, United States Code Sections 552a(j) and (k).

I. Disclosure of information to the Federal Labor Relations Authority (FLRA) (including its General Counsel) when requested in connection with the investigation and resolution of allegations of unfair labor practices, in connection with the resolution of exceptions to arbitrator awards when a question of material fact is raised, in connection with matters before the Federal Service Impasses Panel, and to investigate representation petitions and conduct or supervise representation elections.

The release of information to FLRA from this Privacy Act system of records is necessary to comply with the statutory mandate under which FLRA operates. It has also been determined that the release of information for this purpose is a necessary and proper use of the information in this system of records.

J. Information may be disclosed to the Equal Employment Opportunity Commission when requested in connection with investigations of alleged or possible discrimination practices, examination of Federal affirmative employment programs, compliance with the Uniform Guidelines of Employee Selection Procedures, or other functions vested in the Commission by the President's Reorganization Plan No. 1 of 1978.

K. Information may be disclosed to officials of the Merit Systems Protection Board, and the Office of the Special Counsel, when requested in connection with appeals, special studies of the civil service and other merit systems, review of rules and regulations, investigation of alleged or possible prohibited personnel practices, and such other functions, promulgated in Title 5 United States Code, Sections 1205 and 1206, or as may be authorized by law.

L. Disclosure may be made to the VA-appointed representative of an employee of all notices, determinations, decisions, or other written communications issued to the employee in connection with an examination ordered by VA under medical evaluation (formerly fitness-for-duty) examination procedures or Department-filed disability retirement procedures.

III. Compatibility of the Proposed Routine Uses

The Privacy Act permits disclosure of information about individuals without their consent for a routine use when the information will be used for a purpose that is compatible with the purpose for which the information is collected. In all of the routine use disclosures described above, either the recipient of the information will use the information in connection with a matter relating to one of VA's programs; to provide a benefit to VA; or because disclosure is required by law.

The notice of intent to publish and an advance copy of the system notice have been sent to the appropriate congressional committees and to the Director of the Office of Management and Budget (OMB) as required by 5 U.S.C. 552a(r) (Privacy Act) and guidelines issued by OMB (61 FR 6428), February 20, 1996.

Approved: August 12, 2002.
Anthony J. Principi,
Secretary of Veterans Affairs.

103VA07B

System Name: Police and Security Records—VA.

System Location:

VA Police and Security personnel maintain electronic and paper records at VA facilities and VA Central Office, 810 Vermont Ave., NW., Washington, DC 20420. Address locations for VA facilities are listed in VA Appendix 1 of the biennial publication of the VA systems of records.

Categories of Individuals Covered by the System:

Veterans, VA police officers, Federal government employees, retirees, contractors, subcontractors, volunteers, and other individuals, including private citizens, who:

1. Have been a complainant, a witness, a victim, or a subject of an investigation of a violation or of an alleged violation of a law on VA property;

2. Have been a witness or a victim when there has been a VA police response to a report of a missing patient;

3. Have been witness to, or involved in, a motor vehicle accident on VA property;

4. Have been a witness, victim, or subject when there has been a VA police response to provide assistance to VA employees;

5. Have registered a motor vehicle with VA police;

6. Have had property confiscated by VA police or whose property has been given to VA police for safekeeping; or

7. For whom a VA identification card has been prepared.

Categories of Records in the System:

Security and law enforcement records, containing specific identification of persons, can be found in electronic and/or paper medium:

1. Master Name Index contains demographic information (i.e., name, address, date of birth, sex) and descriptive information such as height, weight, hair color, eye color, and scars of marks.

2. Quick Name Check allows for the immediate retrieval of information based on a name from files contained within the law enforcement records subject to this system of records notice.

3. VA Police Uniform Offense Reports, Investigative Notes, Case Log, and other documentation assembled during an investigation. Uniform Offense Reports contain information of all types of offenses and incidents, criminal and non-criminal, that occur at a facility and to which VA police respond (e.g., criminal investigations, investigative stops, patient and staff assistance calls, missing patient searches, and motor vehicle accidents).

4. All violation information and copies of U.S. District Court Violation Notices and Courtesy Warnings issued by VA police.

5. On-station vehicle registration records used for identifying vehicle owners at a facility.

6. Records pertaining to individuals with outstanding warrants, summons, court commitments, or other types of legal process.

7. Daily Operations Journal records include names and other personal identifying information of persons with whom VA police have had official, duty-related contact.

8. VA police officer training records.

9. Photographs of any and all persons and/or scenes pertinent to an incident or investigation.

10. Motor vehicle registrations.

11. Identification cards with photographic images for veterans, Federal government employees, retirees, volunteers, contractors, subcontractors, or private citizens.

12. Records of evidence, confiscated property, or property being held for safekeeping.

Authority for Maintenance of the System:

United States Code (U.S.C.), Section 501 and Sections 901-905.

Purpose:

The records and information contained in this system of records are necessary for the effective administration and management of the Department's nationwide Police and Security program. The collection and use of accurate, up-to-date data is necessary for the purpose of enforcing the law and protecting persons and property on VA property and at VA Central Office. Examples: ID cards are used to visibly identify employees, contractors, students, and other designated individuals from the general public. ID cards also serve as a means of access control to the facility. Motor vehicle registration records serve to accurately identify the owner of a vehicle and the suitability of its presence on VA grounds. These records are also used for a VA facility's ride sharing program. Evidence or confiscated property records are used to accurately track and record the chain of custody maintained by the VA police.

Routine Uses of Records Maintained in the System, Including Categories of Users and the Purposes of Such Uses:

1. Disclosure may be made to a congressional office from the record of an individual in response to an inquiry from the congressional office that is made at the request of that individual.

2. Disclosure may be made to the National Archives and Records Administration (NARA) in records management activities and inspections conducted under authority of Title 44 United States Code.

3. Disclosure may be made to DoJ and United States attorneys in defense or prosecution of litigation involving the United States, and to Federal agencies upon their request in connection with review of administrative tort claims filed under the Federal Tort Claims Act, Title 28 United States Code, Section 2672.

4. Any information in this system, except the name and address of a veteran, may be disclosed to a Federal, State, or local agency maintaining civil or criminal violation records or other pertinent information such as prior employment history, prior Federal employment background investigations, and/or personal or educational background in order for VA to obtain information relevant to the hiring, transfer, or retention of an employee, the letting of a contract, the granting of a security clearance, or the issuance of a grant or other benefit. The name and address of a veteran may be disclosed to a Federal agency under this routine use of this information has been requested by the Federal agency in order to respond to the VA inquiry.

5. VA may disclose on its own initiative any information in this system, except the names and home addresses of veterans and their dependents, which is relevant to a suspected or reasonably imminent violation of law, whether civil, criminal, or regulatory in nature and whether arising by general or program statute or by regulation, rule or order issued pursuant thereto, to a Federal, State, local, tribal, or foreign agency charged with the responsibility of investigating or prosecuting such violation, or charged with enforcing or implementing the statute, regulation, rule or order. On its own initiative, VA may also disclose the names and addresses of veterans and dependents to a Federal agency charged with the responsibility of investigating or prosecuting civil, criminal, or regulatory violations of law, or charged with enforcing or implementing the statute, regulation, rule, or order issued pursuant thereto.

6. Information from this system of records may be disclosed to DoJ or in a proceeding before a court, adjudicative body, or other administrative body before which the Agency is authorized to appear when: the Agency, or any component thereof, or any employee of the Agency in his or her official capacity, where DoJ or the Agency has agreed to represent the employee or the U.S.; when the Agency determines that litigation is likely to affect the Agency or any of its components, is a party to litigation and has an interest in such litigation, and the use of such information by DoJ or the Agency is deemed by the Agency to be relevant and necessary to the litigation provided that the disclosure is compatible with the purpose for which the records were collected.

7. Information in this system regarding traffic accidents may be disclosed to private insurance companies for use in determining payment of a claim under a policy.

8. To assist attorneys in representing their clients, any information in this system may be disclosed to attorneys representing veterans, Federal government employees, retirees, volunteers, contractors, subcontractors, or private citizens being investigated and prosecuted for violating the law, except where VA has decided release is inappropriate under Title 5 United States Code, Section 552a(j) and (k).

9. Disclosure of information to FLRA, including its General Counsel, when requested in connection with the investigation and resolution of allegations of unfair labor practices, in connection with the resolution of exceptions to arbitrator awards when a question of material fact is raised, in connection with matters before the Federal Service Impasses Panel, and to investigate representation petitions and conduct or supervise representation elections.

10. Information may be disclosed to the Equal Employment Opportunity Commission when requested in connection with investigations of alleged or possible discrimination practices, examination of Federal affirmative employment programs, compliance with the Uniform Guidelines of Employee Selection Procedures, or other functions vested in the Commission by the President's Reorganization Plan No. 1 of 1978.

11. Information may be disclosed to officials of the Merit Systems Protection Board, and the Office of the Special Counsel, when requested in connection with appeals, special studies of the civil service and other merit systems, reviews of rules and regulations, investigation of alleged or possible prohibited personnel practices, and such other functions, promulgated in Title 5 United States Code, Sections 1205 and 1206, or as may be authorized by law.

12. Disclosure may be made to the VA-appointed representative of an employee of all notices, determinations, decisions, or other written communications issued to the employee in connection with an examination ordered by VA under medical evaluation (formerly fitness-for-duty) examination procedures or Department-filed disability retirement procedures.

Policies and Practices for Storing, Retrieving, Accessing, Retaining and Disposing of Records in the System:

Storage:

VA Police and Security Services maintain electronic and paper records at each VA facility and VA Central Office.

Retrievability:

Information is retrieved by name or Social Security Number.

Safeguards:

Access to working areas where information is maintained in VA facilities and VA Central Office is controlled and restricted to VA employees and VA contractors on a need-to-know basis. Paper document files are locked in a secure container when files are not being used and when work area is not occupied. VA facilities are protected from outside access after normal duty hours by security personnel. Access to information on electronic media is controlled by individually unique passwords and codes. Computer access authorizations, computer applications available and used, information access attempts, frequency and time of use are recorded and monitored.

Retention and Disposal:

Records will be maintained and disposed of in accordance with the recorded disposition authority approved by the Archivist of the United States.

System Manager(s) and Address:

Director, Police and Security Service (07B), 810 Vermont Avenue, NW., Washington, DC 20420.

Notification Procedures:

An individual who wishes to determine whether a record is being maintained under his or her name in this system or wishes to determine the contents of such records should submit a written request or apply in person to the VA facility where the records are located. VA facility location information can be found in the Facilities Locator section of VA's Web site at http://www.va.gov. A majority of records in this system are exempt from record access and amendment provisions of Title 5 United States Code, Sections 552a(j) and (k). To the extent that records in the system are not subject to exemption, individuals may request access and/or amendment. A determination as to whether an exemption applies shall be made at the tie a request for access or contest is received.

Record Access Procedure:

Individuals seeking information regarding access to and amendment of records in this system may write, call or visit the VA facility where the records are maintained.

Contesting Record Procedures:

(See Record Access Procedure above).

Record Source Categories:

Information is obtained from veterans, VA police officers, Federal government employees, retirees, volunteers, contractors, subcontractors, other law enforcement agencies, and private citizens.

Systems Exempted from Certain Provisions of the Act:

Under Title 5 United States Code, Section 552a(j)(2), the head of any agency may exempt any system of records within the agency from certain provisions of the Privacy Act, if the agency or component that maintains the system performs as its principal function any activities pertaining to the enforcement of criminal laws. The function of the Police and Security Service is to provide for the maintenance of law and order and the protection of persons and property on Department property. This system of records has been created, in major part, to support the criminal law related activities assigned by the Department under the authority of Title 38 United States Code, Section 901 to the Police and Security Service. These activities constitute the principal function of this staff.

In addition to principal functions pertaining to the enforcement of criminal laws, the Police and Security Service may receive and investigate complaints or information from various sources concerning the possible existence of activities constituting noncriminal violations of law, rules, or regulations or substantial and specific danger to the public and safety.

Based upon the foregoing, the Secretary of Veterans Affairs has exempted this system of records, to the extent that it encompasses information pertaining to criminal law related activities from the following provisions of the Privacy Act of 1974, as permitted by 5 U.S.C. 552a(j)(2):

5 U.S.C. 552a(c) (3) and (4)

5 U.S.C. 552a(d) (1) through (4)

5 U.S.C. 552a(e) (1), (2) and (3)

5 U.S.C. 552a(e)(4) (G), (H) and (I)

5 U.S.C. 552a(e) (5) and (8)

5 U.S.C. 552a(f)

5 U.S.C. 552a(g)

The Secretary of Veterans Affairs has exempted this system of records, to the extent that it does not encompass information pertaining to criminal law related activities under 5 U.S.C. 552a(j)(2), from the following provisions of the Privacy Act of 1974, as permitted by 5 U.S.C. 552a(k)(2):

5 U.S.C. 552a(c)(3)

5 U.S.C. 552a(d) (1) through (4)

5 U.S.C. 552a(e)(1)

5 U.S.C. 552a(e)(4) (G), (H) and (I)

5 U.S.C. 552a(f)

Reasons for exemptions: The exemption of information and material in this system of records is necessary in order to accomplish the law enforcement functions of the Police and Security Service, to prevent subjects of investigations from frustrating the investigatory process, to prevent the disclosure of investigative techniques, to fulfill commitments made to protect the confidentiality of sources, to maintain access to sources of information, and to avoid endangering these sources and Policy and Security personnel.

[FR Doc. 02-31709 Filed 12-18-02; 8:45 am]

BILLING CODE 8320-01-U